DEPARTMENT OF ENERGY

Federal Energy Regulatory Commission

Combined Notice of Filings #1

January 21, 2009.

Take notice that the Commission received the following electric corporate filings:

Docket Numbers: EC08-111-000.

Applicants: Franklin Resources, Inc.

Description: Franklin Resources, Inc. submits responses to FERC's 12/22/08 Deficiency Letter.

Filed Date: 01/16/2009.

Accession Number: 20090121-0189.

Comment Date: 5 p.m. Eastern Time on Monday, January 26, 2009.

Docket Numbers: EC09-48-000.

Applicants: EPCOR Power Enterprises LLC, EPCOR Power (Castleton) LLC, Castleton Energy Center, LLC.

Description: Joint Application of EPCOR Power Enterprises, et al. for Authorization for Disposition of Jurisdictional Facilities under Section 203 of the FPA, Request for Waiver, Confidential Treatment of PSA and Request for Expedited Consideration.

Filed Date: 01/16/2009.

Accession Number: 20090116-5038.

Comment Date: 5 p.m. Eastern Time on Friday, February 6, 2009.

Take notice that the Commission received the following exempt wholesale generator filings:

Docket Numbers: EG09-23-000.

Applicants: TXC Green Power LLC.

Description: Self Certification Notice as an Exempt Wholesale Generator of TXC Green Power LLC.

Filed Date: 01/16/2009.

Accession Number: 20090116-5065.

Comment Date: 5 p.m. Eastern Time on Friday, February 6, 2009.

Take notice that the Commission received the following electric rate filings:

Docket Numbers: ER03-552-011, ER03-984-009.

Applicants: New York Independent System Operator, Inc.

Description: Status Report of New York Independent System Operator, Inc. per the Commission's February 22, 2006 Order.

Filed Date: 01/15/2009.

Accession Number: 20090115-5018.

Comment Date: 5 p.m. Eastern Time on Thursday, February 5, 2009.

Docket Numbers: ER06-615-038.

Applicants: California Independent System Operator Corp.

Description: MRTU Readiness Certification of California Independent System Operator Corp.

Filed Date: 01/16/2009.

Accession Number: 20090116-5124.

Comment Date: 5 p.m. Eastern Time on Friday, February 6, 2009.

Docket Numbers: ER06-1280-003, ER00-2181-006, ER02-556-010.

Applicants: Hess Corporation, Hess Energy, Inc., Select Energy New York, Inc.

Description: Hess Corporation et al. proposes to change the seller designations in their market-based rate tariffs from Category 2 to Category 1, and request waiver of the notice requirements, effective 2/1/09.

Filed Date: 01/14/2009.

Accession Number: 20090116-0099.

Comment Date: 5 p.m. Eastern Time on Wednesday, February 4, 2009.

Docket Numbers: ER08-1422-001.

Applicants: New York Independent System Operator, Inc.

Description: New York Independent System Operator, Inc. submits Motion to Defer Effective Date of previously accepted tariff provisions and request for waivers and on January 14, 2009 submits an amendment to the October 28th motion.

Filed Date: 10/28/2008, 01/14/2009.

Accession Number: 20081028-5099, 20090114-5155.

Comment Date: 5 p.m. Eastern Time on Wednesday, February 4, 2009.

Docket Numbers: ER09-534-000.

Applicants: Idaho Power Company.

Description: Idaho Power Company submits for filing Open Access Transmission Tariff Revisions under Section 205 of the Federal Power Act.

Filed Date: 01/12/2009.

Accession Number: 20090114-0008.

Comment Date: 5 p.m. Eastern Time on Monday, February 2, 2009.

Docket Numbers: ER09-537-000.

Applicants: Massachusetts Electric Co.

Description: Massachusetts Electric Co submits notification of twenty-nine updates to its distribution service rates under National Grid's borderline sales tariff, which is designated as FERC Electric Tariff, First Revised Volume 1.

Filed Date: 01/14/2009.

Accession Number: 20090116-0106.

Comment Date: 5 p.m. Eastern Time on Wednesday, February 4, 2009.

Docket Numbers: ER09-538-000.

Applicants: GRANITE STATE ELECTRIC CO.

Description: Granite State Electric Company et al. submits notification of sixteen updates to its distribution service rates under National Grid's borderline sales tariff, which is designated as FERC Electric Tariff, Original Volume 2 etc.

Filed Date: 01/14/2009.

Accession Number: 20090116-0105.

Comment Date: 5 p.m. Eastern Time on Wednesday, February 4, 2009.

Docket Numbers: ER09-539-000.

Applicants: Aspire Capital Management LLC.

Description: Aspire Capital Management LLC submits the Amended Petition for Acceptance of Initial Tariff, Waivers and Blanket Authority, FERC Electric Tariff, Original Volume 1.

Filed Date: 01/14/2009.

Accession Number: 20090116-0104.

Comment Date: 5 p.m. Eastern Time on Wednesday, February 4, 2009.

Docket Numbers: ER09-540-000.

Applicants: American Cooperative Services, Inc.

Description: American Cooperative Services, Inc. submits Notice of Cancellation of its market-based tariff, Second Revised Rate Schedule FERC 1, effective 3/15/09.

Filed Date: 01/14/2009.

Accession Number: 20090116-0103.

Comment Date: 5 p.m. Eastern Time on Wednesday, February 4, 2009.

Docket Numbers: ER09-541-000.

Applicants: PJM Interconnection L.L.C.

Description: PJM Interconnection, LLC submits Notice of Cancellation of an interconnection service agreement with Exelon Corp designated as Original Service Agreement 733.

Filed Date: 01/14/2009.

Accession Number: 20090116-0102.

Comment Date: 5 p.m. Eastern Time on Wednesday, February 4, 2009.

Take notice that the Commission received the following open access transmission tariff filings:

Docket Numbers: OA08-52-004.

Applicants: New York Independent System Operator, Inc.

Description: New York Independent System Operator, Inc. and the New York Transmission Owners submit revisions to Attachment Y of their Open Access Transmission Tariff pursuant to the Commission's 10/16/08 Order.

Filed Date: 01/14/2009.

Accession Number: 20090116-0098.

Comment Date: 5 p.m. Eastern Time on Wednesday, February 4, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-2150 Filed 1-30-09; 8:45 am]

BILLING CODE 6717-01-P